DEPARTMENT OF DEFENSE

Office of the Secretary

Department of Defense Mandatory Declassification Review Addresses

AGENCY: Department of Defense.

ACTION: Notice.

SUMMARY: Pursuant to the Information Security Oversight Office's Classified National Security Information Directive No. 1, this notice provides Department of Defense addresses to which Mandatory Declassification Review requests may be sent. This notice benefits the public in advising them where to send such requests for declassification review.

FOR FURTHER INFORMATION CONTACT: Mr. Charlie Talbott, 703-697-4325.

The following chart identifies the offices to which mandatory declassification review requests should be addressed:

OSD/JS: Washington Headquarters Services, Director Freedom of Information & Security Review, RM 2C757, 1155 Defense Pentagon, Washington, DC 20301-1155.

Army: Department of the Army, Declassification Activity, Attn: TAPC-PDD, Suite 509, 4600 N. Fairfax Drive, Arlington, VA 22203-1553.

Navy: Department of the Navy, Chief of Naval Operations, N09B11, RM 1D469, 2000 Navy Pentagon, Washington, DC 20350-2000.

Air Force: Department of the Air Force, 11 CS/SCSR (MDR), 1000 Air Force Pentagon, Washington, DC 20330-1000.

Marine: Commandant of the Marine Corps, U.S. Marine Corps, 2 Navy Annex, Room 1010, Washington, DC 20830-1775.

DARPA: Defense Advance Research Project Agency, 3701 North Fairfax Dr., Arlington, VA 22203-1714.

DCAA: Director, Defense Contract Audit Agency, Attn: CPS, 8725 John J. Kingman Rd., Ste. 2135, Ft. Belvoir, VA 22060-6219.

DIA: Defense Intelligence Agency, Attn: D A N-1A, Rm E4-234, Washington, DC 20340-5100.

DISA: Defense Information Systems Agency, Attn: Security Division, MPS 6, 5111 Leesburg Pike, Ste. 100, Falls Church, VA 22041.

DSS: Defense Security Service, Office of FOIA & Privacy, 1340 Braddock Place, Alexandria, VA 22314-1651.

DLA: Defense Logistics Agency, Attn: DLA/DSS-S, 8725 John J. Kingman Rd., Ste. 2533, Ft. Belvoir, VA 22060-6221.

NIMA: National Imagery and Mappin Agency, 4600 Sangamore Rd., Mail Stop D-10, Bethesda, Md. 20816-5000.

NSA: National Security Agency, Information Policy Office, DC323 Room S2CW113, Suite 6884, Bldg SAB2, 9800 Savage Road, Ft. George G. Mead, MD 20755-6248.

DTRA: Defense Threat Reduction Agency, Attn: SCR, 8725 John J. Kingman Rd, Ft. Belvoir, VA 22060-6201.

EUCOM: U.S. European Command, (HQ USEUCOM), Attn: ECJ1-AX (FOIA Officer), SMSgt Greg Outlaw, USAF, Unit 30400, APO, AE 09131.

SOUTHCOM: U.S. Southern Command, Attn: Mr. Marco T., Villalobos, SCJ1-A (FOIA), 3511 NW 91st Avenue, Miami, FL 33172-1217.

SOCOM: U.S. Special, Operations Command, Attn: Kathryn Meeks, SOCS-SJS-SI (FOIA), 7701 Tampa Point Boulevard, MacDill AFB, FL 33621-5323.

CENTCOM: U.S. Central Command, Attn: Jacqueline J. Scott, CCJ6-DM, 7115 South Boundary Blvd, MacDill AFB, FL 33621-5101.

NORTHCOM: U.S. Northern Command, HQNORAD, USNORTHCOM/CSM, Attn: Lynn Bruns, 250 Vandenberg Street, Suite B016, Peterson Air Force, Base, CO, 80914-3804.

JFCOM: U.S. Joint Forces Command, Attn: Ms. Joyce Neidlinpa, Code J024, 1562 Mitscher Ave, Suite 200, Norfolk, VA 23511-2488.

PACOM: U.S. Pacific Command, Attn: Maureen Jones, USPACOM FOIA Coordinator (J042), Administrative support, Division, Joint Secretariat, Box 28, Camp Smith, HI 96861-5025.

STRATCOM: U.S. Strategic Command, Attn: CL1731 (FOIA), 901 SAC blvd, STE 1E5, Offutt AFB, NE 68113-6653.

TRANSCOM: U.S. Transportation Command, Chief, Resources Information Communications and Records Management, Attn: TCJ6-RII, 508 Scott Drive, Bldg 1961, Scott AFB, IL 62225-5357.

Dated: November 7, 2003.
L.M. Bynum,
Alternate OSD Federal Register Liaison Officer, Department of Defense.

[FR Doc. 03-28580 Filed 11-14-03; 8:45 am]

BILLING CODE 5001-06-P